DEPARTMENT OF HEALTH AND HUMAN SERVICES

Centers for Disease Control and Prevention

Disease, Disability, and Injury Prevention and Control Special Emphasis Panel (SEP): Pre-Knowledge of Early Hearing Detection and Intervention Program Process and Its Effect on Maternal Stress and Compliance With Follow-Up, Potential Extramural Project (PEP) 2007-R-07

In accordance with Section 10(a)(2) of the Federal Advisory Committee Act (Pub. L. 92-463), the Centers for Disease Control and Prevention (CDC) announces the aforementioned meeting.

Time and Date: 12 p.m.-4 p.m., May 16, 2007 (Closed).

Place: Teleconference.

Status: The meeting will be closed to the public in accordance with provisions set forth in Section 552b(c) (4) and (6), Title 5 U.S.C., and the Determination of the Director, Management Analysis and Services Office, CDC, pursuant to Public Law 92-463.

Matters to be Discussed: The meeting will include the review, discussion, and evaluation of PEP 2007-R-07, “Pre-Knowledge of Early Hearing Detection and Intervention Program Process and Its Effect on Maternal Stress and Compliance with Follow-Up.”

For Further Information Contact: Juliana Cyril, M.P.H., Ph.D., Associate Director for Policy and Peer Review, CDC, 1600 Clinton Road, NE., Mailstop D72, Atlanta, GA 30333, telephone 404-639-4639.

The Director, Management Analysis and Services Office, has been delegated the authority to sign Federal Register notices pertaining to announcements of meetings and other committee management activities, for both CDC and the Agency for Toxic Substances and Disease Registry.

Dated: April 2, 2007.
Elaine L. Baker,
Acting Director, Management Analysis and Services Office, Centers for Disease Control and Prevention.

[FR Doc. E7-6588 Filed 4-6-07; 8:45 am]

BILLING CODE 4163-18-P